DEPARTMENT OF THE INTERIOR

National Indian Gaming Commission

Notice of Approved Class III Tribal Gaming Ordinance

AGENCY: National Indian Gaming Commission, Interior.

ACTION: Notice.

SUMMARY: The purpose of this notice is to inform the public of the approval of Paskenta Band of Nomlaki Indians' Class III gaming ordinance by the Chairman of the National Indian Gaming Commission.

DATES: This notice is applicable July 6, 2022.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register is sufficient to meet the requirements of 25 U.S.C. 2710(d)(2)(B). Every ordinance and approval thereof is posted on the Commission's website (www.nigc.gov) under General Counsel, Gaming Ordinances within five (5) business days of approval.

On May 24, 2022, the Chairman of the National Indian Gaming Commission approved Paskenta Band of Nomlaki Indians' Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: June 28, 2022.
Michael Hoenig,
General Counsel.

May 24, 2022

VIA EMAIL

Chairman Andrew Alejandra

Paskenta Band of Nomlaki Indians

P.O. Box 709

Coming, CA 96021

Re: Paskenta Band Amended Gaming Ordinance

Dear Chairman Alejandra:

This letter responds to the March 21, 2022 submission on behalf of the Paskenta Band of Nomlaki Indians (“Tribe”) informing the National Indian Gaming Commission that the Tribe amended its gaming ordinance. The amendments to the tribal gaming code were intended to update the ordinance to reflect changes in tribal law, ensure consistency with federal law and bring it in conformity with the Tribe's new gaming compact with the State of California that became effective on December 11, 2020.

25 CFR 522.2(t) requires a tribe to submit a description for resolving disputes between the gaming public and the tribe with any request for approval of a gaming ordinance. Previously, the dispute resolution process was described in the Tribe's ordinance. Resolution TC2022-5 amends the gaming ordinance to now require the gaming commission to promulgate dispute resolution regulations that meet the minimum standards set forth in the Tribe's gaming compact. Since the amended gaming ordinance specifies that any dispute resolution process must meet the minimum standards of the Tribe's gaming compact, it is my understanding that in the absence of an approved dispute resolution regulations, the dispute resolution process described in gaming compact will control.

Thank you for bringing these amendments to our attention. The amended ordinance, as noted above, is approved as it is consistent with the requirements of the Indian Gaming Regulatory Act and NIGC's regulations. If you have any questions or require anything further, please contact Josh Proper at (202) 632-0294.

Sincerely,

E. Sequoyah Simermeyer

Chairman

[FR Doc. 2022-14294 Filed 7-5-22; 8:45 am]

BILLING CODE 7565-01-P